DEPARTMENT OF DEFENSE

Office of the Secretary

Threat Reduction Advisory Committee

AGENCY: Department of Defense, Office of the Under Secretary of Defense (Acquisition, Technology and Logistics)

ACTION: Notice of advisory committee meeting.

SUMMARY: The Threat Reduction Advisory Committee will meet in closed session on Thursday, March 20, 2003, at the Institute for Defense Analyses (IDA), and on Friday, March 21, 2003 in the Pentagon, Washington, DC.

The mission of the Committee is to advice the Under Secretary of Defense (Acquisition, Technology and Logistics) on technology security, Counterproliferation, chemical and biological defense, sustainment of the nuclear weapons stockpile, and other matters related to the Defense Threat Reduction Agency's mission.

In accordance with section 10(d) of the Federal Advisory Committee Act, Public Law 92-463, as amended (5 U.S.C. Appendix II), it has been determined that this Committee meeting concerns matters listed in 5 U.S.C. 552b(c)(1), and that accordingly the meeting will be closed to the public.

DATES: Thursday, March 20, 2003, (8 a.m. to 4 p.m.) and Friday, March 21, 2003, (8 a.m. to 9:20 a.m.)

ADDRESSES: Institute for Defense Analyses, Board Room, 4850 Mark Center Drive, Alexandria, Virginia and the USD (AT&L) Conference Room (3D1019), the Pentagon, Washington, DC.

FOR FURTHER INFORMATION CONTACT: Colonel Don Minner, Defense Threat Reduction Agency/AST, 8725 John J. Kingman Road MS 6201, Fort Belvoir, VA 22060-6201. Phone: (703) 767-5718.

Dated: Janaury 16, 2003.
Patricia Toppings,
Alternate OSD Federal Register Liaison Officer, Department of Defense.

[FR Doc. 03-1443 Filed 1-22-03; 8:45 am]

BILLING CODE 5001-08-M